DEPARTMENT OF TRANSPORTATION

Federal Aviation Administration

Public Notice for Waiver of Aeronautical Land-Use Assurance; Toledo Express Airport; Toledo, OH

AGENCY: Federal Aviation Administration, DOT.

ACTION: Notice of intent of waiver with respect to land.

SUMMARY: The Federal Aviation Administration (FAA) is considering a proposal to change a portion of airport land from aeronautical use to non-aeronautical use and to authorize the sale of the airport property. The proposal consists of fourteen parcels of land totaling approximately 58.64 acres for industrial land use. Current use and present condition is vacant grassland. There are no impacts to the airport by allowing the airport to dispose of this property. The land was acquired under FAA Project No(s). AIP-3-39-0077-1190, AIP-3-39-0077-1692, AIP-3-39-0077-2293, AIP-3-39-0077-2594, and AIP-3-39-0077-2794. Approval does not constitute a commitment by the FAA to financially assist in the sale of the subject airport property nor a determination that all measures covered by the program are eligible for Airport Improvement Program funding from the FAA. The disposition of proceeds from the sale of the airport property will be in accordance with the FAA's Policy and Procedures Concerning the Use of Airport Revenue, published in the Federal Register on February 16, 1999. This proposal is for approximately 58.640 acres in total.

In accordance with section 47107(h) of title 49, United States Code, this notice is required to be published in the Federal Register 30 days before modifying the land-use assurance that requires the property to be used for an aeronautical purpose. The proposed land will be used for warehousing and light commercial/industrial use, which will provide additional jobs and in economically challenged area and enhance the aesthetics of the surrounding community.

The proceeds from the sale of the land will be used for airport improvements and operation expenses at Toledo Express Airport.

DATES: Comments must be received on or before September 7, 2001.

FOR FURTHER INFORMATION CONTACT: Mr. Lawrence C. King, Federal Aviation Administration, Great Lakes Region, Detroit Airports District Office, DET ADO-670.2, Willow Run Airport, East, 8820 Beck Road, Belleville, Michigan 48111, (734) 487-7293. Documents reflecting this FAA action may be reviewed at this same location or at Toledo Express Airport, Toledo, Ohio.

SUPPLEMENTARY INFORMATION: Following is a legal description of the property located in Lucas County, Ohio and described as follows:

A parcel of land being part of the Southeast quarter of the Southwest quarter of Section 9, also being all of Rosonowski Addition Plat 1 (Plat Volume 94, Page 76), all of Original Lot 3 and part of Original Lots 6 and 7, in Section 16, all in Town 7 North, Range 9 East, Swanton Township, Lucas County, Ohio, and being more particularly described as follows:

Commencing at a found iron bolt at the Northwest corner of said Original Lot 3 also being the intersection of the centerline of Sager Road (right-of-way varies) and Wilkins Road (60 foot right-of-way), said point also being the TRUE POINT OF BEGINNING of the parcel herein described;

Thence North 00° 05′ 55″ East on the centerline of Wilkins Road, also being the West line of the Southeast quarter of the Southwest quarter of Section 9, a distance of 300.00 feet to the intersection with a line drawn 300.00 feet Northerly of and parallel to the South line of the Southeast quarter of the Southwest quarter of Section 9, also being the centerline of Sager Road as it now exists;

Thence South 89° 44′ 06″ East, on said line being 300.00 feet Northerly of and parallel to the South line of the Southeast quarter of the Southwest quarter of Section 9, a distance of 275.00 feet to the intersection with a line drawn 275.00 feet Easterly of and parallel to the West line of the Southeast quarter of the Southwest quarter of Section 9, also being the centerline of Wilkins Road;

Thence North 00° 05′ 55″ East, on said line 275.00 feet Easterly of and parallel to the West line of the Southeast quarter of the Southwest quarter of Section 9, a distance of 194.01 feet to the intersection with the Southwesterly right-of-way line of the U.S. 20A (right-of-way varies);

Thence on the Southwesterly right-of-way line of U.S. 20A the following six calls:

On an arc to the left, a distance of 829.46 feet to a point, said arc having a radius of 1487.40 feet, a central angle of 31° 57′ 05″, and a chord bearing of South 54° 47′ 13″ East, 818.76 feet;

South 00° 15′ 54″ West, a distance of 25.00 feet to a point;

South 89° 44′ 06″ East, a distance of 147.82 feet to a point;

South 00° 15′ 54″ West, a distance of 30.00 feet to a point;

South 84° 17′ 41″ East, a distance of 158.21 feet to a point;

North 86° 01′ 58″ East, a distance of 67.81 feet to the intersection with the East line of said Original Lot 3;

Thence South 00° 51′ 16″ West, on the East line of Original Lot 3, a distance of 1289.57 feet to a Northeast corner of Original Lot 7;

Thence South 00° 51′ 16″ West, on the East line of Original Lot 7, a distance of 443.19 feet to the intersection with the South line of the North one-third of Original Lot 7;

Thence North 89° 45′ 41″ West, on said South line of the North one-third of Original Lot 6, and Original Lot 7, Section 16, a distance of 1319.70 feet to the intersection of the West line of Original Lot 6, also being the center line of Wilkins Road;

Thence North 00° 54′ 28″ East, on the West line of Original Lot 6 and the centerline of Wilkins Road, a distance of 443.35 feet to the Southwest corner of Original Lot 3;

Thence North 00° 54′ 28″ East, on the West line of Original Lot 3, and the centerline of Wilkins Road, a distance of 1330.04 feet to the TRUE POINT OF BEGINNING of the parcel herein described, said parcel containing 58.640 acres of land, more or less, subject to all easements, zoning restrictions of record and legal highways.

The bearings used herein are for the purpose of describing angles only and are not referenced to true or magnetic North.

Issued in Belleville, Michigan, June 15, 2001.
Irene R. Porter,
Manager, Detroit Airports District Office, Great Lakes Region.

[FR Doc. 01-19367 Filed 8-7-01; 8:45 am]

BILLING CODE 4910-13-M